DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (“we”) solicits review and comment from local, State, and Federal agencies, and the public on the following permit requests.

DATES: Comments on these permit applications must be received on or before June 16, 2004.

ADDRESSES: Written data or comments should be submitted to the U.S. Fish and Wildlife Service, Chief, Endangered Species, Ecological Services, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above (telephone: 503-231-2063). Please refer to the respective permit number for each application when requesting copies of documents.

SUPPLEMENTARY INFORMATION:

Permit No. TE-781220

Applicant: William Wagner, Mountain Center, California.

The permittee requests an amendment to take (survey by pursuit) the Quino checkerspot butterfly (Euphydryas editha quino) in conjunction with surveys throughout the range of the species in California for the purpose of enhancing its survival.

Permit No. TE-084254

Applicant: Ellen Schafhauser, Ridgecrest, California.

The applicant requests a permit to take (survey by pursuit) the Delhi Sands flower-loving fly (Rhaphiomidas terminatus abdominalis) in conjunction with surveys throughout the range of the species in California for the purpose of enhancing its survival.

Permit No. TE-084254

Applicant: David Moskovitz, Yorba Linda, California.

The applicant requests a permit to take (harass by survey) the Riverside fairy shrimp (Streptocephalus wootoni) and the San Diego fairy shrimp (Branchinecta sandiegonensis) in conjunction with surveys in Santa Barbara, Ventura, Los Angeles, Orange, San Diego, San Bernardino, Riverside, and Imperial Counties, California, for the purpose of enhancing their survival.

Permit No. TE-045994

Applicant: U.S. Geological Survey, San Diego, California.

The permittee requests an amendment to take (harass by survey, capture, ear-tag, and fur-clip) the Stephens' kangaroo rat (Dipodomys stephensi) in conjunction with distribution and abundance research in San Diego County, California, for the purpose of enhancing its survival.

Permit No. TE-085024

Applicant: Anne M. Condon, Ridgefield, California.

The applicant requests a permit to take (harass by survey) the southwestern willow flycatcher (Empidonax traillii extimus) in conjunction with surveys throughout the range of the species in California and Arizona for the purpose of enhancing its survival.

Permit No. TE-085026

Applicant: Jeff Steinman, San Francisco, California.

The applicant requests a permit to take (harass by survey) the southwestern willow flycatcher (Empidonax traillii extimus) in conjunction with surveys in San Diego, Los Angeles, Imperial, Orange, Riverside, Inyo, Kern, San Bernardino, San Luis Obispo, Ventura, and Santa Barbara Counties, California, for the purpose of enhancing its survival.

Permit No. TE-085879

Applicant: Lisa Roberts, Ventura, California.

The applicant requests a permit to take (harass by survey) the southwestern willow flycatcher (Empidonax traillii extimus) in conjunction with surveys in Kern County, California, for the purpose of enhancing its survival.

Permit No. TE-039321

Applicant: Kylie Fischer, Escondido, California.

The permittee requests an amendment to take (monitor nests) the least Bell's vireo (Vireo pusillus bellii) in conjunction with demographic studies throughout the range of the species in California for the purpose of enhancing its survival.

Permit No. TE-085880

Applicant: Ronald Francis, Moopark, California.

The applicant requests a permit to take (monitor nests) the least Bell's vireo (Vireo pusillus bellii) in conjunction with demographic studies in Ventura, Los Angeles, Riverside, San Bernardino, and San Diego Counties, California, for the purpose of enhancing its survival.

Permit No. TE-086267

Applicant: The National Park Service, Ventura, California.

The applicant requests a permit to take (harass by survey; capture; handle; measure; sex; insert passive integrated transponder tags; radio-collar; vaccinate; collect blood and fecal samples, parasites, and hair; captive propagate; administer veterinary medical treatments; release to the wild; and transport) the San Miguel Island fox (Urocyon littoralis littoralis), the Santa Rosa Island fox (Urocyon littoralis santarosae), and the Santa Cruz Island fox (Urocyon littoralis santacruzae) in conjunction with predator avoidance behavior studies and other scientific research on San Miguel, Santa Rosa, and Santa Cruz Islands, California, for the purpose of enhancing their survival.

Permit No. TE-744878

Applicant: The Institute for Wildlife Studies, Arcata, California.

The permittee requests an amendment to take (harass by survey, capture, handle, measure, sex, insert passive integrated transponder tags, radio-collar, vaccinate, administer veterinary medical treatments, captive propagate, collect blood and fecal samples, transport, and release) the Santa Catalina Island fox (Urocyon littoralis catalinae) and Santa Cruz Island fox (Urocyon littoralis santacruzae) in conjunction with scientific research on Santa Catalina and Santa Cruz Islands, California, for the purpose of enhancing their survival.

Permit No. TE-085025

Applicant: Environmental Science Associates, San Francisco, California.

The applicant requests a permit to take (harass by survey) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi), in conjunction with surveys throughout the range of each species in California and Oregon for the purpose of enhancing their survival.

Permit No. TE-835365

Applicant: Department of Water Resources, Sacramento, California.

The permittee requests an amendment to take (capture and temporarily hold in captivity) the salt marsh harvest mouse (Reithrodontomys raviventris) in conjunction with husbandry activities throughout range of the species for the purpose of enhancing its survival.

Permit No. TE-045937

Applicant: Alan Hastings, Davis, California.

The permittee requests an amendment to take (harass) the California clapper rail (Rallus longirostris obsoletus) within the San Francisco estuary in Alameda and San Mateo Counties, California, in conjunction with ecological studies for the purpose of enhancing its survival.

Permit No. TE-826200

Applicant: California Department of Parks and Recreation, Half Moon Bay, California.

The permittee requests an amendment to take (capture, handle, mark, temporarily hold in captivity, and release) the San Francisco garter snake (Thamnophis sirtalis tetrataenia) in conjunction with ecological research in San Mateo and Santa Cruz Counties, California, for the purpose of enhancing its survival.

Permit No. TE-086595

Applicant: Joshua Phillips, Berkeley, California.

The applicant requests a permit to take (harass by survey) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-826200

Applicant: California Department of Parks and Recreation, Pescadero, California.

The applicant requests a permit to take (capture, mark, and temporarily hold) the San Francisco garter snake (Thamnophis sirtalis tetrataenia) in conjunction with habitat enhancement activities in San Mateo and Santa Cruz Counties, California, for the purpose of enhancing its survival.

We solicit public review and comment on each of these recovery permit applications.

Dated: April 29, 2004.
Lawrence R. Gamble,
Acting Manager, California/Nevada Operations Office, Region 1, U.S. Fish and Wildlife Service.

[FR Doc. 04-11038 Filed 5-14-04; 8:45 am]

BILLING CODE 4310-55-P